DEPARTMENT OF THE INTERIOR

Minerals Management Service

Environmental Document Prepared for Proposed Mineral Exploration on the Alaska Outer Continental Shelf

AGENCY: Minerals Management Service, Interior.

ACTION: Notice of the availability of environmental document prepared for Outer Continental Shelf mineral exploration.

SUMMARY: Minerals Management Service (MMS), in accordance with Federal regulations that implement the National Environmental Policy Act (NEPA), announces the availability of a NEPA-related Environmental Assessment (EA) prepared by MMS for proposed oil and gas exploration on the Alaska Outer Continental Shelf (OCS). This listing includes the only proposal for which a Finding of No Significant Impact (FONSI) was prepared by the Alaska OCS Office in the 3-month period preceding this Notice.

FOR FURTHER INFORMATION CONTACT: Persons interested in reviewing environmental documents for the proposal listed above, or in obtaining information about EAs and FONSIs prepared for activities on the Alaska OCS, are encouraged to contact the Alaska OCS Regional office of MMS.

The FONSI and associated EA are available for public inspection between the hours of 7:45 a.m. and 4:30 p.m., Monday through Friday at: Minerals Management Service, Alaska OCS Region, 3801 Centerpoint Drive, Suite 500, Anchorage, AK 99503-5823, phone: (907) 334-5200 or contact akwebmaster@mms.gov.

SUPPLEMENTARY INFORMATION: Proposal. The proposal is for a geophysical (seismic) survey of the Cosmopolitan Unit on the Outer Continental Shelf (OCS) in Lower Cook Inlet. During November 2003, MMS filed with the Environmental Protection Agency a multiple-sale EIS assessing the general effects of leasing and exploration activities including seismic surveys in Lower Cook Inlet. This EA tiers from the multiple-sale EIS, incorporating it by reference. The EA examines the potential environmental effects of the specific proposed survey of the Cosmopolitan Unit and of alternatives with additional mitigation.

Location: Lower Cook Inlet.

EA Number: OCS EIS/EA MMS 2005-045.

FONSI Date: July 20, 2005.

The MMS prepares EAs and FONSIs on proposed seismic exploration programs. The documents examine the potential environmental effects of the proposed exploration and present MMS conclusions regarding the significance of those effects. The EAs are used for determining whether or not approvals would significantly affect the quality of the human environment in the sense of NEPA 102(2)(C). A FONSI is prepared in those instances where MMS finds that approval would not cause significant effects. The FONSI briefly presents the basis for that finding and includes a summary of the EA.

This Notice constitutes the public Notice of Availability of environmental documents required under the NEPA regulations.

Dated: November 10, 2005.
John Goll,
Regional Director, Alaska OCS Region, Minerals Management Service.

[FR Doc. E5-6867 Filed 12-5-05; 8:45 am]

BILLING CODE 4310-MR-P